DEPARTMENT OF ENERGY

Trespassing on DOE Property: Idaho Operations Office Properties

AGENCY: Idaho Operations Office, Department of Energy.

ACTION: Notice of designation of Idaho Operations Office properties and facilities as off-limits areas.

SUMMARY: The Department of Energy (DOE) hereby amends and adds to the previously published site descriptions of various DOE and contractor occupied buildings as off-limits areas. The three buildings are located at 535, 625, and 655 University Boulevard, Idaho Falls, Idaho 83415. In accordance with 10 CFR part 860, it is a federal crime under 42 U.S.C. 2278a for unauthorized persons to enter into or upon these Idaho Operations Office properties and facilities. If unauthorized entry into or upon these properties is into an area enclosed by a fence, wall, floor, roof or other such structural barrier, conviction for such unauthorized entry may result in a fine not to exceed $100,000 or imprisonment for not more than one year, or both. If unauthorized entry into or upon the properties is into an area not enclosed by a fence, wall, floor, roof, or other such structural barrier, conviction for such unauthorized entry may result in a fine of not more than $5,000.*

* By operation of law, the Criminal Fine Improvements Act of 1987, Pub. L. No. 100-185, 101 Stat. 1279 (1987), increased the fine amounts from $1000/$5000 to $5000/$100,000. See, e.g., U.S. v. Lentsch, 369 F.3d 948, 950 (6th Cir. 2004) (quoting 58 FR. 47984 (Sept. 14, 1993)); see also 10 CFR 860.5.

DATES: Effective Date: February 2, 2009.

FOR FURTHER INFORMATION CONTACT: Jo Ann Williams, Office of General Counsel, 1000 Independence Avenue, SW., Washington, DC 20585, (202) 586-6899, or Matt Smith, Office of Chief Counsel, Idaho Operations Office, 1955 Fremont Ave., MS 1209, Idaho Falls, ID 83415, (208) 526-7109.

SUPPLEMENTARY INFORMATION: The Department of Energy (DOE), successor agency to the Atomic Energy Commission (AEC), is authorized, pursuant to § 229 of the Atomic Energy Act of 1954, as amended (42 U.S.C. 2278a), and § 104 of the Energy Reorganization Act of 1974 (42 U.S.C. 5814), as implemented by 10 CFR Part 860, published in the Federal Register on September 14, 1993 (58 FR 47984-47985), and section 301 of the Department of Energy Organization Act (42 U.S.C. 7151), to prohibit unauthorized entry and the unauthorized introduction of weapons or dangerous materials into or upon any DOE facility, installation, or real property. By notices dated November 1, 1983 (48 FR 50390), January 23, 1987 (52 FR 2580), August 5, 1988 (53 FR 29512), and May 10, 2000 (65 FR 30094), DOE prohibited unauthorized entry into or upon the “Idaho National Engineering Laboratory” and “Idaho National Engineering and Environmental Laboratory” (now the Idaho National Laboratory, or INL), and various DOE and contractor occupied facilities, including the Willow Creek Building, the Engineering Research Office Building, and various DOE vehicle and bus parking facilities located in Idaho Falls, Arco, on Highway 20, Bonneville County, Blackfoot, Mackay, Shelley, Rexburg, Rigby, and Pocatello, Idaho.

Since the last published notice on May 10, 2000, DOE has leased three new facilities in Idaho Falls, Idaho. Accordingly, DOE prohibits the unauthorized entry and the unauthorized introduction of weapons or dangerous materials, as provided in 10 CFR 860.3 and 860.4 into and upon these Idaho Operations Office sites. The sites referred to above have previously been designated as off-limits areas, and this notice adds to those off-limits areas. Descriptions of the sites being designated at this time are as follows:

1. University Boulevard—1

535 University Boulevard, Idaho Falls, Idaho 83415, more particularly described as Lot 4, Block 1 Education Research Center, Division #1, an addition to the City of Idaho Falls being a part of the Northeast ¼ of Section 12, T.2N., R.37E., B.M. Idaho Falls, Bonneville County, Idaho.

2. University Boulevard—2

655 University Boulevard, Idaho Falls, Idaho 83415, more particularly described as Lot 3, Block 1 Education Research Center, Division #1, an addition to the City of Idaho Falls being a part of the Northeast ¼ of Section 12, T.2N., R.37E., B.M. Idaho Falls, Bonneville County, Idaho.

3. University Boulevard—3

625 University Boulevard, Idaho Falls, Idaho 83415, more particularly described as Lot 1, Block 1 Education Research Center, Division #1, an addition to the City of Idaho Falls being a part of the Northeast ¼ of Section 12, T.2N., R.37E., B.M. Idaho Falls, Bonneville County, Idaho.

Notices stating the pertinent prohibitions of 10 CFR 860.3 and 860.4 and the penalties of 10 CFR 860.5 are being posted at all entrances of the above-referenced areas and at intervals along their perimeters, as provided in 10 CFR 860.6.

Glenn S. Podonsky,
Chief Health, Safety and Security Officer, Office of Health, Safety and Security.

[FR Doc. E9-2172 Filed 1-30-09; 8:45 am]

BILLING CODE 6450-01-P